DEPARTMENT OF THE INTERIOR

Fish and Wildlife Service

Application for an Incidental Take Permit for the Kaheawa Pastures Wind Generation Facility, Ukumehame, Maui, Hawaii

AGENCY: Fish and Wildlife Service, Interior.

ACTION: Receipt of application; notice of availability.

SUMMARY: In response to an application from Kaheawa Wind Power, LLC (applicant), the Fish and Wildlife Service (Service) is considering issuing an incidental take permit pursuant to section 10(a)(1)(B) of the Endangered Species Act (ESA). In response to this application, we are making it available for public review and comment. If approved, the permit would authorize take of species listed under the ESA incidental to otherwise lawful activities associated with the proposed Kaheawa Pastures Wind Energy Generation Facility.

DATES: Written comments must be received on or before December 5, 2005.

ADDRESSES: Please address written comments to Jeff Newman, Assistant Field Supervisor, Pacific Islands Fish and Wildlife Office, U.S. Fish and Wildlife Service, 300 Ala Moana Boulevard, Room 3-122, Box 50088, Honolulu, Hawaii 96850. You may also send comments by facsimile to (808) 792-9580.

FOR FURTHER INFORMATION CONTACT: Arlene Pangelinan, Habitat Conservation Plan Coordinator, U.S. Fish and Wildlife Service, Pacific Islands Office, 300 Ala Moana Boulevard, Room 3-122, Box 50088, Honolulu, Hawaii 96850; telephone: (808) 792-9400.

SUPPLEMENTARY INFORMATION: The permit application and Environmental Assessment are available for public review and comment. The application includes a proposed habitat conservation plan (HCP).

Documents are posted on the Internet at http://pacificislands.fws.gov. Alternatively, you may obtain copies of these documents by calling the person named in the section of this notice titled FOR FURTHER INFORMATION CONTACT, or by writing to the person named in the section titled ADDRESSES. Copies of these documents also are available for public inspection and review during normal business hours at the office listed under ADDRESSES. In addition, you may view documents at the following locations on the island of Hawaii: Hawaii State Library, 478 South King Street, Honolulu; Kahului Public Library, 90 School Street, Kahului; Kihei Public Library, 35 Waimahaihai Street, Kihei; and the Lahaina Public Library, 680 Wharf Street, Lahaina.

We specifically request information, views, and opinions from the public on the proposed Federal action of issuing a permit, including the identification of any aspects of the human environment not already analyzed in our Environmental Assessment. Further, we specifically solicit information regarding the adequacy of the HCP as measured against our permit issuance criteria found in 50 CFR 13.21, 17.22, and 17.32.

Our practice is to make comments, including names and home addresses of respondents, available for public review during regular business hours. Individual respondents may request that we withhold their identity from the administrative record. We will honor such request to the extent allowed by law. If you wish us to withhold your identity (e.g., individual name, home address, and home phone number), you must state this prominently at the beginning of your comments. We will make all submissions from organizations, agencies or businesses, and from individuals identifying themselves as representatives or officials of such entities, available for public inspection in their entirety.

Background

Section 9 of the ESA and Federal regulations prohibit the “take” of fish and wildlife species listed as endangered or threatened. The term “take” means to harass, harm, pursue, hunt, shoot, wound, kill, trap, capture, or collect, or to attempt to engage in any such conduct (16 U.S.C. 1538). However, under section 10(a) of the ESA, we may issue permits to authorize “incidental take” of listed fish and wildlife species. Incidental take is defined by the ESA as take that is incidental to, and not the purpose of, carrying out an otherwise lawful activity. Regulations governing incidental take permits for threatened and endangered species are found at 50 CFR 17.32 and 17.22, respectively. All species included on the permit would receive assurances under the Service's “No Surprises” regulation.

The applicant has applied to the Service for a 20-year incidental take permit for the endangered Hawaiian Petrel (Pterodroma sandwichensis), threatened Newell's (Townsend's) Shearwater (Puffinus auricularis newelli), endangered Nene (Branta sandvicensis), and the endangered Hawaiian Hoary Bat (Lasiurus cinereus semotus) (covered species), pursuant to section 10(a)(1)(B) of the ESA. The activities proposed to be covered by the permit include the construction and operation of the island of Maui's first commercial wind energy generation facility. The proposed facility would consist of 20 General Electric wind-generation turbines, situated in a single articulated row at an elevation extending from approximately 2,000 to 3,200 feet in the vicinity of existing Maui Electric Company (MECO) transmission lines. The height of each proposed monopole steel turbine tower is 55 meters (180 feet), and the diameter of the rotors is 70.5 meters (231 feet), for a total peak structural height of approximately 90 meters (296 feet). The proposed project would include an operation and maintenance facility, a substation and wind monitoring equipment, all situated in proximity to the turbines, as well as improvements and some realignment to an existing four-wheel-drive access road.

The entire facility has the capacity to generate 30 megawatts of power, which would eliminate the use of approximately 150,000 to 250,000 barrels of oil annually, thereby reducing annual emissions from the MECO power plant by approximately 177.6 million pounds of carbon dioxide, 1.24 million pounds of sulfur dioxide and 0.32 million pounds of nitrogen oxides.

Incidental take of covered species may occur as a result of these proposed covered activities. The applicant proposes to avoid, minimize, and mitigate the impacts of the taking of these species by implementing at a minimum the following measures: (1) Using “monopole” steel tubular towers to eliminate perching and nesting opportunities and minimize collision risk; (2) utilizing a rotor with a significantly lower rotation speed (11-20 rpm) which makes the rotor more visible during operations; (3) choosing a site in proximity to existing electrical transmission lines to eliminate the need for an overhead transmission line from the project to the interconnect location; (4) restricting construction activity to daylight hours to avoid the use of nighttime lighting; (5) implementing a minimal lighting plan for the wind turbines and minimizing on-site lighting to reduce impacts to birds attracted to lights; (6) limiting on-site vegetation to that which is already established to eliminate new foraging attractions for Nene; (7) conducting surveys during nesting and fledging seasons of the covered birds during the first year of project operation to better understand the species' habits and population status and document the response to turbines; (8) conducting surveys to locate unknown or unconfirmed nesting colonies of Hawaiian Petrels and Newell's Shearwaters in West Maui, estimate nest numbers and distribution, identify management needs and implement management measures where possible; (9) providing financial contribution to the Nene propagation and release program and funding construction and operation of a new release facility for Nene for 5 years; and (10) contributing $20,000 to the Hawaiian Bat Research Cooperative and conducting surveys for bat activity within the project area.

Our Environmental Assessment considers the direct, indirect, and cumulative effects of the proposed action of permit issuance, including the measures that would be implemented to minimize and mitigate such impacts. The Environmental Assessment contains an analysis of two alternatives: (1) The No Action Alternative (no permit issuance); and (2) the Proposed Action Alternative (construction and operation of the Kaheawa Pastures Wind Generation Facility as proposed with the issuance of the permit and implementation of the HCP). Alternative turbine designs and alternative sites were considered but not analyzed in detail in the Environmental Assessment because these alternatives were infeasible.

This notice is provided pursuant to section 10(a) of the ESA and the regulations of the National Environmental Policy Act (NEPA) of 1969 (40 CFR 1506.6). We will evaluate the permit application, associated documents, and comments submitted thereon to determine whether the application meets the requirements of NEPA regulations and section 10(a) of the ESA. If we determine that those requirements are met, we will issue a permit to the applicant.

Dated: September 28, 2005.
David J. Wesley,
Deputy Regional Director, Regional Office, Portland, Oregon.

[FR Doc. 05-19825 Filed 10-3-05; 8:45 am]

BILLING CODE 4310-55-P